GENERAL SERVICES ADMINISTRATION

[Notice-FTR 2014-07; Docket 2014-0002; Sequence 38]

Privately Owned Vehicle (POV) Mileage Reimbursement Rates

AGENCY: Office of Government-Wide Policy (OGP), General Services Administration (GSA).

ACTION: Notice of FTR Bulletin 15-02, Calendar Year (CY) 2015 Privately Owned Vehicle (POV) Mileage Reimbursement Rates and Standard Mileage Rate for Moving Purposes (Relocation Allowances).

SUMMARY: The General Services Administration's (GSA) annual privately owned vehicle (POV) mileage reimbursement rate reviews have resulted in new CY 2015 rates for the use of privately owned automobiles (POAs), POAs when a Government owned automobile (GOA) is authorized, privately owned motorcycles, and privately owned airplanes for official purposes. Additionally, the POV rate used in conjunction with official relocation will change. FTR Bulletin 15-02 establishes the new CY 2015 POV mileage reimbursement rates for official temporary duty and relocation travel ($0.575 for POAs, $0.23 for POAs when a GOA is authorized, $0.545 for privately owned motorcycles, $1.29 for privately owned airplanes, and $0.23 for moving purposes), pursuant to the process discussed below. This notice of subject bulletin is the only notification to agencies of revisions to the POV mileage rates for official travel and relocation other than the changes posted on GSA's Web site. GSA determines these rates by reviewing the annual standard automobile study contracted for by the Internal Revenue Service (IRS), as well as conducting independent automobile, motorcycle and aircraft studies that evaluate various factors, such as the cost of fuel, the depreciation of the original vehicles costs, maintenance and insurance, and/or by applying consumer price index data.

DATES: Effective: December 30, 2014.

Applicability: This notice applies to travel performed on or after January 1, 2015 through December 31, 2015.

FOR FURTHER INFORMATION CONTACT: For clarification of content, please contact Mr. Cy Greenidge, Office of Government-Wide Policy, Office of Asset and Transportation Management, at 202-219-2349, or by email at travelpolicy@gsa.gov. Please cite Notice of FTR Bulletin 15-02.

SUPPLEMENTARY INFORMATION:

Change in Standard Procedure

GSA posts the POV mileage reimbursement rates, formerly published in 41 CFR Chapter 301, solely on the internet at www.gsa.gov/mileage. Also, posted on this site is the standard mileage rate for moving purposes. This process, implemented in FTR Amendments 2010-07, 75 FR 72965, November 29, 2010, 2007-03, 72 FR 35187, June 27, 2007, and 2007-06, 72 FR 70234, December 11, 2007, in the Federal Register ensures more timely updates in mileage reimbursement rates by GSA for Federal employees who are on official travel or relocating. Notices published periodically in the Federal Register, such as this one, and the changes posted on the GSA Web site, now constitute the only notification to Federal agencies of revisions to the POV mileage reimbursement rates and the standard mileage reimbursement rate for moving purposes.

Dated: December 16, 2014.
Alexander J. Kurien,
Deputy Associate Administrator, Office of Asset and Transportation Management, Office of Government-Wide Policy.

[FR Doc. 2014-30317 Filed 12-29-14; 8:45 am]

BILLING CODE 6820-14-P